DEPARTMENT OF COMMERCE

National Oceanic and Atmospheric Administration

50 CFR Part 679

[Docket No. 071106673-8011-02]

RIN 0648-XM17

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating projected unused amounts of Pacific cod from catcher vessels using trawl gear, catcher vessels using pot gear, and vessels using jig gear to American Fisheries Act (AFA) catcher processor vessels, catcher processor vessels using pot gear, and catcher processor vessels using hook-and-line gear in the Bering Sea and Aleutian Islands management area (BSAI). These actions are necessary to allow the 2008 total allowable catch (TAC) of Pacific cod to be harvested.

DATES: Effective December 5, 2008, until 2400 hours, A.l.t., December 31, 2008.

FOR FURTHER INFORMATION CONTACT: Josh Keaton, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2008 Pacific cod TAC in the BSAI is 170,720 metric tons (mt) as established by the 2008 and 2009 final harvest specifications for groundfish in the BSAI (73 FR 10160, February 26, 2008). Pursuant to § 679.29(a)(7)(ii), the allocations of the Pacific cod TAC are 73,844 mt to catcher processor vessels using hook-and-line gear, 2,274 mt to catcher processor vessels using pot gear, 12,737 mt to catcher vessels greater than or equal to 60 feet (18.3 meters (m)) length overall (LOA) using pot gear, 3,506 mt to AFA trawl catcher processors, and 33,692 mt to catcher vessels using trawl gear. The allocation to vessels using jig gear is 260 mt and the allocation to catcher vessels less than 60 feet (18.3m) LOA using hook-and-line or pot gear is 5,210 mt after four reallocations (73 FR 11562, March 4, 2008; 73 FR 19748, April 11, 2008; 73 FR 49962, August 25, 2008; and 73 FR 52797, September 11, 2008).

As of December 1, 2008, the Administrator, Alaska Region, NMFS (Regional Administrator), has determined that catcher vessels using trawl gear will not be able to harvest 2,850 mt of Pacific cod allocated to those vessels under § 679.20(a)(7)(ii). The Regional Administrator has determined that the projected unharvested amount is unlikely to be harvested by any of the other catcher vessel sectors described in § 679.20(a)(7)(iii)(A). Furthermore, the Regional Administrator has also determined that other trawl sectors will be unable to utilize the full unharvested amount and that catcher vessels greater than or equal to 60 feet (18.3m) LOA using pot gear will not be able to harvest any additional amounts. Therefore, in accordance with § 679.20(a)(7)(iii)(B), NMFS apportions 1,200 mt of Pacific cod from catcher vessels using trawl gear to AFA trawl catcher processors, 1,607 mt of Pacific cod from catcher vessels using trawl gear to catcher processor vessels using hook-and-line gear, and 43 mt from catcher vessels using trawl gear to catcher processors using pot gear.

The Regional Administrator has also determined that catcher vessels greater than or equal to 60 feet (18.3 m) LOA using pot gear will not be able to harvest 1,315 mt of Pacific cod. Furthermore, the Regional Administrator has determined that catcher processor vessels using pot gear will be unable to utilize the full unharvested amount. Therefore, in accordance with § 679.20(a)(7)(iii)(C), NMFS is reallocating 772 mt of Pacific cod allocated to catcher vessels greater than 60 feet (18.3 m) LOA using pot gear to catcher processor vessels using pot gear and 543 mt of Pacific cod allocated to catcher vessels greater than or equal to 60 feet (18.3 m) LOA using pot gear to catcher processor vessels using hook-and-line gear.

The Regional Administrator has also determined that vessels using jig gear will be unable to harvest 80 mt of Pacific cod. The Regional Administrator has also determined that catcher vessels less than 60 feet (18.3m) LOA using hook-and-line or pot gear and catcher vessels greater than or equal to 60 feet (18.3 m) LOA using hook-and-line gear will be unable to harvest additional Pacific cod. Therefore, in accordance with § 679.20(a)(7)(iii)(A), NMFS is reallocating 80 mt of Pacific cod allocated to jig vessels to catcher processor vessels using hook-and-line gear.

The allocations for Pacific cod specified in the 2008 and 2009 final harvest specifications for groundfish in the BSAI (73 FR 10160, February 26, 2008) and four reallocations (73 FR 11562, March 4, 2008, 73 FR 19748, April 11, 2008, 73 FR 49962, August 25, 2008, and 73 FR 52797, September 11, 2008) are revised as follows: 180 mt to vessels using jig gear, 76,074 mt to catcher processor vessels using hook-and-line gear, 11,422 mt to catcher vessels using pot gear, 3,089 mt to catcher processor vessels using pot gear, 4,706 mt to AFA catcher processor vessels using trawl gear, and 30,842 mt to catcher vessels using trawl gear.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Pacific cod. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of December 1, 2008.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: December 5, 2008.
Emily H. Menashes,
Acting Director, Office of Sustainable Fisheries, National Marine Fisheries Service.

[FR Doc. E8-29201 Filed 12-5-08; 4:15 pm]

BILLING CODE 3510-22-S